ENVIRONMENTAL PROTECTION AGENCY

[ER-FRL-6686-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20060414, ERP No. D-USA-J11022-CO, Pinon Canyon Maneuver Site (PCMS) Transformation Program, Implementation, Base Realignment and Closure Activities, Fort Carson, Las Animas, Otero and Huerfano Counties, CO.

Summary: EPA expressed environmental concerns about air quality impacts, water quality impacts and impacts to wildlife and vegetation, and requested additional information on energy conservation and pollution prevention.

Rating EC2.

EIS No. 20060510, ERP No. D-NRC-B06006-MA, Generic—License Renewal of Nuclear Plants, Supplement 29 to NUREG-1437, Regarding the License Renewal of Pilgrim Nuclear Power Station, Cape Cod Bay, Town of Plymouth, Plymouth County, MA

Summary: EPA expressed environmental concerns about entrainment and impingement impacts and cooling water discharge impacts, and requested additional information on thermal backwash operations, the fish return system, and mitigation.

Rating EC2.

EIS No. 20060521, ERP No. D-NRC-B06007-VT, Generic—License Renewal of Nuclear Plants, Supplement 30 to NUREG-1437, Regarding Vermont Yankee Nuclear Power Station, Vernon, VT.

Summary: EPA expressed environmental concerns about impacts related to entrainment and impingement of fish and other aquatic organisms, and impacts from heat shock.

Rating EC2.

EIS No. 20070044, ERP No. D-AFS-G65104-NM, Surface Management of Gas Leasing and Development, Proposes to Amend the Forest Plan include Standard and Guidelines Related to Gas Leasing and Development in the Jicarilla Ranger District, Carson National Forest, Rio Arriba County, NM.

Summary: EPA does not object to the proposed action.

Rating LO.

EIS No. 20070047, ERP No. D-COE-F09803-MN, Minnesota Steel Project, Construction and Operation of an Open Pit Taconite Mine Facilities, Concentrator, Pellet Plant, Direct Reduced Iron Plant and Steel Mill Project, located west of Nashwauk, Itasca County, MN.

Summary: EPA expressed environmental concerns about wetlands impacts and the proposed mitigation, as well as impacts to water and air quality and tribal resource uses.

Rating EC2.

EIS No. 20070084, ERP No. D-BPA-L08065-WA, Port Angeles—Juan de Fuca Transmission Project, Construct a 550-Megawatt Direct Current Cable from Victoria, British Columbia, across the Strait of Juan de Fuca to Port Angeles, Presidential Permit, Clallam County, WA.

Summary: EPA expressed environmental concerns about the potential for sediment discharge and increased turbidity in the Strait of Juan de Fuca and Harbor, as well as degradation of water quality within marine waters and creeks that are currently listed under the Clean Water Act Section 303(d) for low dissolved oxygen and fecal coliform.

Rating EC2.

EIS No. 20070092, ERP No. DC-COE-E36167-FL, Central and Southern Florida Project, Tamiami Trail Modifications, Modified Water Deliveries to Everglades National Park, Acquisition of Real Estate Rights to Portions of Privately Owned Properties along the Tamiami Trail, Dade County, FL.

Summary: EPA continues to support the proposed partial bridging and elevation of Tamiami Trail as a component of Everglades restoration, and has no objection to the proposed project.

Rating LO.

Final EISs

EIS No. 20070029, ERP No. F-GSA-B40096-ME, Madawaska Border Station Project, Replacement of Existing Border Station in Madawaska, Selected the Build Alternative, International Border between United States and Canada, Aroostook County, ME

Summary: EPA does not object to the proposed project, and continues to encourage the GSA to further investigate an anti-idling program for the project.

Dated: May 1, 2007.
Robert W. Hargrove,
Director, NEPA Compliance Division Office of Federal Activities.

[FR Doc. E7-8531 Filed 5-3-07; 8:45 am]

BILLING CODE 6560-50-P